DEPARTMENT OF ENERGY

Federal Energy Regulatory Commission

[Project No. 2197-047 North Carolina]

Alcoa Power Generating, Inc.; Notice of Availability of Environmental Assessment

August 15, 2001.

In accordance with the National Environmental Policy Act of 1969 and the Federal Energy Regulatory Commission's (Commission) regulations, 18 CFR part 380 (Order No. 486, 52 FR 47897), the Office of Energy Projects has reviewed an application for a marina, boat ramp, and two boat docks on High Rock reservoir and has prepared an environmental assessment (EA) for these facilities. High Rock reservoir is part of the Yadkin Hydroelectric Project on the Yadkin/Pee Dee River in Montgomery, Stanly, Davidson, Rowan, and Davie Counties, North Carolina. The proposed facilities do not occupy any federal or tribal lands.

The EA contains the staff's analysis of the potential environmental impacts of the proposed facilities and concludes that approving the application would not constitute a major federal action that would significantly affect the quality of the human environment.

A copy of the EA is on file with the Commission and is available for public inspection. The EA may also be viewed on the web at http://www.ferc.gov using the “RIMS” link—select “Docket #” and follow the instructions (call 202-208-2222 for assistance).

For further information, contact Steve Hocking at (202) 219-2656.

David P. Boergers,
Secretary.

[FR Doc. 01-20960 Filed 8-20-01; 8:45 am]

BILLING CODE 6717-01-P